DEPARTMENT OF TRANSPORTATION

Federal Aviation Administration

International Civil Aviation Organization's (ICAO) Dangerous Goods Panel; Notice of Public Meeting

AGENCY: Federal Aviation Administration (FAA), DOT.

ACTION: Notice of public meeting.

SUMMARY: In preparation for the International Civil Aviation Organization's (ICAO) Dangerous Goods Panel's (DGP's) Fall Working Group to be held October 15-19, 2012, in Montreal, Canada, the FAA's Office of Hazardous Materials Safety and the Pipeline and Hazardous Materials Safety Administration's (PHMSA) Office of Hazardous Materials Safety announce a public meeting.

DATES: The public meeting will be held on October 10, 2012 from 9:00 a.m. until 12:30 p.m.

ADDRESSES: The public meeting will be held at FAA Headquarters (FOB 10A), Bessie Coleman Conference Center, 2nd Floor, 800 Independence Avenue SW., Washington, DC 20591.

Participants are requested to register by using the following email address: 9-AWA-ASH-ADG-HazMat@faa.gov.

Please include your name, organization, email address, and whether you will be attending in person or participating via conference call.

Conference call connection information will be provided to those who register and indicate that they will participate via conference call.

FOR FURTHER INFORMATION CONTACT: Questions regarding the meeting should be directed to Ms. Janet McLaughlin, Deputy Director, Office of Hazardous Materials Safety, ADG-2, Federal Aviation Administration, 800 Independence Avenue SW., Washington, DC 20591; telephone (202) 385-4900. Email: 9-AWA-ASH-ADG-HazMat@faa.gov.

We are committed to providing equal access to this meeting for all participants. If you need alternative formats or other reasonable accommodations, please call (202) 385-4900 or email 9-AWA-ASH-ADG-HazMat@faa.gov with your request by close of business on October 1st.

Purpose of the Public Meeting

Information and viewpoints provided by stakeholders are requested as the United States delegation prepares for the International Civil Aviation Organization's Dangerous Goods Panel's (ICAO DGP's) Working Group of the Whole 12. The agenda for the Working Group is as follows:

Agenda Item 1: Development of proposals, if necessary, for amendments to Annex 18—The Safe Transport of Dangerous Goods by Air

Agenda Item 2: Development of recommendations for amendments to the Technical Instructions for the Safe Transport of Dangerous Goods by Air (Doc 9284) for incorporation in the 2015-2016 Edition

Agenda Item 3: Development of recommendations for amendments to the Supplement to the Technical Instructions for the Safe Transport of Dangerous Goods by Air (Doc 9284SU) for incorporation in the 2015-2016 Edition

Agenda Item 4: Development of recommendations for amendments to the Emergency Response Guidance for Aircraft Incidents involving Dangerous Goods (Doc 9481) for incorporation in the 2015-2016 Edition

Agenda Item 5: Issues related to lithium batteries

Agenda Item 6: Resolution, where possible, of the non-recurrent work items identified by the Air Navigation Commission or the panel:

6.1: Competency-based training

6.2: Incident data collection

6.3: State of overflight involvement in the exemption process

6.4: Coordination with the Operations Panel with regard to Annex 6

6.5: Coordination with international organizations (e.g. UPU)

Agenda Item 7: Other business

Papers relevant to these agenda items can be viewed at the following Web page: http://www.icao.int/safety/DangerousGoods/Pages/DGP.aspx.

Public Meeting Procedures

A panel of representatives from the FAA and PHMSA will be present. The meetings are intended to be informal, non-adversarial, and to facilitate the public comment process. No individual will be subject to questioning by any other participant. Government representatives on the panel may ask questions to clarify statements. Unless otherwise stated, any statement made during the meetings by a panel member should not be construed as an official position of the US government.

The meeting will be open to all persons, subject to the capacity of the meeting room and phone lines available for those participating via conference call. Every effort will be made to accommodate all persons wishing to attend. The FAA and PHMSA will try to accommodate all speakers, subject to time constraints.

Issued in Washington, DC, on August 24, 2012.
Christopher Glasow,
Director, Office of Hazardous Materials.

[FR Doc. 2012-21544 Filed 8-30-12; 8:45 am]

BILLING CODE P